DEPARTMENT OF COMMERCE

[I.D. 022701A]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Dr. Nancy Foster Scholarship Program.

Form Number(s): None.

OMB Approval Number: None.

Type of Request: Emergency.

Burden Hours: 725.

Number of Respondents: 400.

Average Hours Per Response: 5 hours for an application, 45 minutes for a recommendation.

Needs and Uses: The Dr. Nancy Foster Scholarship Program recognizes outstanding scholarship by providing financial support to graduate students pursuing masters and doctoral degrees in the areas of marine biology, oceanography, and maritime archaeology. Applicants must submit documentation that NOAA uses to select candidates, including three letters of recommendation.

Affected Public: Individuals or households.

Frequency: On occasion.

Respondent's Obligation: Require to obtain or retain a benefit.

OMB Desk Officer: David Rostker, (202) 395-3897.

Copies of the above information collection proposal can be obtained by calling or writing Madeleine Clayton, Departmental Forms Clearance Officer, (202) 482-3129, Department of Commerce, Room 6086, 14th and Constitution Avenue, NW, Washington, DC 20230 (or via the Internet at MClayton@doc.gov).

Written comments and recommendations for the proposed information collection should be sent within 30 days of publication of this notice to David Rostker, OMB Desk Officer, Room 10202, New Executive Office Building, Washington, DC 20503.

Dated: February 23, 2001.
Gwellnar Banks,
Management Analyst, Office of the Chief Information Officer.

[FR Doc. 01-5132 Filed 3-1-01; 8:45 am]

BILLING CODE 3510-JT-S